DEPARTMENT OF JUSTICE

[CPCLO Order No. 05-2024]

Privacy Act of 1974; Systems of Records

AGENCY: Office of Justice Programs, United States Department of Justice.

ACTION: Notice of a new system of records.

SUMMARY: Pursuant to the Privacy Act of 1974 and Office of Management and Budget (OMB) Circular No. A-108, notice is hereby given that the Office of Justice Programs (hereinafter OJP), a component within the United States Department of Justice (DOJ or Department), proposes to develop a new system of records notice titled Training and Technical Assistance Center Records, JUSTICE/OJP—018. The OJP proposes to establish this system of records to manage data from individuals and organizations that may be providing or requesting training and technical assistance, as well as associated events and deliverables.

DATES: In accordance with 5 U.S.C. 552a(e)(4) and (11), this notice is applicable upon publication, subject to a 30-day period in which to comment on the routine uses, described below. Please submit any comments by November 20, 2024.

ADDRESSES: The public, OMB, and Congress are invited to submit any comments by mail to the United States Department of Justice, Office of Privacy and Civil Liberties, ATTN: Privacy Analyst, National Place Building, 1331 Pennsylvania Avenue NW, Suite 1000, Washington, DC 20530; by facsimile at 202-307-0693; or by email at privacy.compliance@usdoj.gov. To ensure proper handling, please reference the above CPCLO Order No. on your correspondence.

FOR FURTHER INFORMATION CONTACT: Nathanial Kenser, Assistant General Counsel, Office of Justice Programs, Nathanial.T.Kenser@usdoj.gov, 202-307-0790.

SUPPLEMENTARY INFORMATION: The Office of Justice Programs' Training and Technical Assistance Centers offer rapid, expert, coordinated, research-driven or evidence-based justice-related training and technical assistance (TTA) on a wide range of topics relevant to state and local practitioners, victim service providers, and allied professionals. All TTA is designed to address the needs of practitioners and help improve state and local justice system responses, respond to juvenile delinquency, build capacity, enhance strategic planning, expand the use of evidence-based practices, and improve the quality of services offered to victims of crime.

Pursuant to 5 U.S.C. 552a(b)(12), records maintained in this system of records may be disclosed to a consumer reporting agency without the prior written consent of the individual to whom the record pertains. Such disclosures will only be made in accordance with 31 U.S.C. 3711(e).

In accordance with 5 U.S.C. 552a(r), the Department has provided a report to OMB and Congress on this new system of records.

Dated: October 2, 2024.
Peter A. Winn,
Chief Privacy and Civil Liberties Officer, United States Department of Justice.

SYSTEM NAME AND NUMBER:

Training and Technical Assistance Center Records (TTAC), JUSTICE/OJP—018.

SECURITY CLASSIFICATION:

The system is unclassified.

SYSTEM LOCATION:

Records are maintained at the following locations: Office of Justice Programs (OJP), 810 7th Street NW, Washington, DC 20531; NTT Global, 1625 West National Drive, Sacramento, CA 95834; and Amazon Web Services GovCloud, 13200 Woodland Park Road, Herndon, VA 20171. The cloud computing service provider and its location may change, so this document may not reflect the most current information available. To confirm information about the current cloud computing service provider, please contact OJP through the OJP service desk at email address OJP.ITservicedesk@ojp.usdoj.gov.

SYSTEM MANAGER(S):

Peter Nguyen, Division Director, Enterprise Architecture Division, Office of the Chief Information Officer, Office of Justice Programs, 810 7th Street NW, Washington, DC 20531, peter.nguyen2@usdoj.gov, (202) 397-1298.

AUTHORITY FOR MAINTENANCE OF THE SYSTEM:

28 U.S.C. 530C; 34 U.S.C. 10102(a)(4) and (5); 10110; 10122(c)(1); 10132(c)(1); 10142(3) and (4); 20103(c)(3); and 20111(c)(4).

PURPOSE(S) OF THE SYSTEM:

The Office of Justice Programs' Training and Technical Assistance Centers offer rapid, expert, coordinated, research-driven or evidence-based justice-related training and technical assistance (TTA) on a wide range of topics relevant to state and local justice-related practitioners, victim service providers, and allied professionals. Records in this system are collected, maintained, used, and disseminated in furtherance of OJP-facilitated TTA.

CATEGORIES OF INDIVIDUALS COVERED BY THE SYSTEM:

Providers and requesters of training and technical assistance; DOJ personnel and contractors; and other individuals will be granted access to the system as permitted by the Privacy Act and pursuant to the routine uses in this notice.

CATEGORIES OF RECORDS IN THE SYSTEM:

The system will maintain business contact information (e.g., email address, phone number, address of business) for requesters, providers, and DOJ personnel; other personal information of requesters and providers (e.g., gender, race, citizenship, education or employment information, personal mailing address, personal email address, personal phone number, photographs); medical accommodation information; and system administrative/audit data relating to requesters, providers, and DOJ personnel (e.g., user ID, password, date/time of access).

RECORD SOURCE CATEGORIES:

Information may be provided by individuals and organizations applying to either receive or provide training and technical assistance.

ROUTINE USES OF RECORDS MAINTAINED IN THE SYSTEM, INCLUDING CATEGORIES OF USERS AND THE PURPOSES OF SUCH USES:

In addition to those disclosures generally permitted under 5 U.S.C. 552a(b), all or a portion of the records or information contained in this system of records may be disclosed as a routine use pursuant to 5 U.S.C. 552a(b)(3) under the circumstances or for the purposes described below, to the extent such disclosures are compatible with the purposes for which the information was collected:

1. Where a record, either alone or in conjunction with other information, indicates a violation or potential violation of law—criminal, civil, or regulatory in nature—the relevant records may be referred to the appropriate federal, state, local, territorial, tribal, or foreign law enforcement authority or other appropriate entity charged with the responsibility for investigating or prosecuting such violation or charged with enforcing or implementing such law.

2. To complainants and/or victims to the extent necessary to provide such persons with information and explanations concerning the progress and/or results of the investigation or case arising from the matters of which they complained and/or of which they were a victim.

3. To any person or entity that the DOJ has reason to believe possesses information regarding a matter within the jurisdiction of the DOJ, to the extent deemed to be necessary by the DOJ in order to elicit such information or cooperation from the recipient for use in the performance of an authorized activity.

4. In an appropriate proceeding before a court, grand jury, or administrative or adjudicative body, when the DOJ determines that the records are arguably relevant to the proceeding; or in an appropriate proceeding before an administrative or adjudicative body when the adjudicator determines the records to be relevant to the proceeding.

5. To the news media and the public, including disclosures pursuant to 28 CFR 50.2, unless it is determined that release of the specific information in the context of a particular case would constitute an unwarranted invasion of personal privacy. Any such disclosure under 28 CFR 50.2 would be in connection with a civil or criminal proceeding.

6. To contractors, grantees, experts, consultants, students, and others performing or working on a contract, service, grant, cooperative agreement, or other assignment for the Federal Government, when necessary to accomplish an agency function related to this system of records.

7. To appropriate officials and employees of a federal agency or entity that requires information relevant to a decision concerning the hiring, appointment, or retention of an employee; the assignment, detail, or deployment of an employee; the issuance, renewal, suspension, or revocation of a security clearance; the execution of a security or suitability investigation; the letting of a contract, or the issuance of a grant or benefit.

8. To a former employee of the DOJ for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

9. To federal, state, local, territorial, tribal, foreign, or international licensing agencies or associations which require information concerning the suitability or eligibility of an individual for a license or permit.

10. To a Member of Congress or staff acting upon the Member's behalf when the Member or staff requests the information on behalf of, and at the request of, the individual who is the subject of the record.

11. To the National Archives and Records Administration for purposes of records management inspections conducted under the authority of 44 U.S.C. 2904 and 2906.

12. To appropriate agencies, entities, and persons when (1) the DOJ suspects or has confirmed that there has been a breach of the system of records; (2) the DOJ has determined that as a result of the suspected or confirmed breach there is a risk of harm to individuals, the DOJ (including its information systems, programs, and operations), the Federal Government, or national security; and (3) the disclosure made to such agencies, entities, and persons is reasonably necessary to assist in connection with the DOJ's efforts to respond to the suspected or confirmed breach or to prevent, minimize, or remedy such harm.

13. To another federal agency or federal entity, when the DOJ determines that information from this system of records is reasonably necessary to assist the recipient agency or entity in (1) responding to a suspected or confirmed breach, or (2) preventing, minimizing, or remedying the risk of harm to individuals, the recipient agency or entity (including its information systems, programs, and operations), the Federal Government, or national security, resulting from a suspected or confirmed breach.

14. To any agency, organization, or individual for the purpose of performing authorized audit or oversight operations of DOJ and meeting related reporting requirements.

15. To such recipients and under such circumstances and procedures as are mandated by federal statute or treaty.

POLICIES AND PRACTICES FOR STORAGE OF RECORDS:

Training and Technical Assistance Center (TTAC) records are stored in electronic formant in OJP cloud platforms or in Office for Victims of Crime (OVC) TTAC secure servers. Records are stored securely in accordance with applicable federal laws, regulations, and DOJ directives and guidance.

POLICIES AND PRACTICES FOR RETRIEVAL OF RECORDS:

Information is retrieved by email address, individual and organization name, award number, organization affiliation, profile type, status as an active user, and the date of last login.

POLICIES AND PRACTICES FOR RETENTION AND DISPOSAL OF RECORDS:

Records in this system are retained and disposed of in accordance with the National Archives and Records Administration, General Records Schedule 1.2, Item 020: “Grant and Cooperative Agreement Case Files.”

ADMINISTRATIVE, TECHNICAL, AND PHYSICAL SAFEGUARDS:

This system meets all DOJ requirements for authorization to operate per DOJ Order 0904, Cybersecurity Program. Specifically, information in this system is maintained in accordance with applicable laws, rules, and policies on protecting individual privacy. Cloud Service Providers maintain system backup information in accordance with a government contract that requires adherence to applicable laws, rules, and policies.

Internet connections are protected by multiple firewalls. Security personnel conduct periodic vulnerability scans using DOJ-approved software to ensure security compliance and security logs are enabled for all computers to assist in troubleshooting and forensics analysis during incident investigations. Users of individual computers can only gain access to the data by a valid user identification and authentication.

RECORD ACCESS PROCEDURES:

All requests for access to records must be in writing and should be addressed to the OJP FOIA Officer, Office of Justice Programs, Office of the General Counsel, 810 7th Street NW, Room 5400, Washington, DC 20531. The envelope and letter should be clearly marked “Privacy Act Access Request.” The request must describe the records sought in sufficient detail to enable Department personnel to locate them with a reasonable amount of effort. The request must include a general description of the records sought and must include the requester's full name, current address, and date and place of birth. The request must be signed and either notarized or submitted as a declaration under penalty of perjury.

Although no specific form is required, you may obtain forms for this purpose from the FOIA/Privacy Act Mail Referral Unit, United States Department of Justice, 950 Pennsylvania Avenue NW, Washington, DC 20530, or on the Department of Justice website at https://www.justice.gov/oip/oip-request.html.

More information regarding the Department's procedures for accessing records in accordance with the Privacy Act can be found at 28 CFR part 16, subpart D, “Protection of Privacy and Access to Individual Records Under the Privacy Act of 1974.”

CONTESTING RECORD PROCEDURES:

Individuals seeking to contest or amend records maintained in this system of records must direct their requests to the address indicated in the “RECORD ACCESS PROCEDURES” paragraph, above. All requests to contest or amend records must be in writing, and the envelope and letter should be clearly marked “Privacy Act Amendment Request.” All requests must state clearly and concisely what record is being contested, the reasons for contesting it, and the proposed amendment to the record.

More information regarding the Department's procedures for amending or contesting records in accordance with the Privacy Act can be found at 28 CFR 16.46, “Requests for Amendment or Correction of Records.”

NOTIFICATION PROCEDURES:

Individuals may be notified if a record in this system of records pertains to them when the individuals request information utilizing the same procedures as those identified in the “RECORD ACCESS PROCEDURES” paragraph, above.

EXEMPTIONS PROMULGATED FOR THE SYSTEM:

None.

HISTORY:

None.

[FR Doc. 2024-23952 Filed 10-18-24; 8:45 am]

BILLING CODE 4410-18-P